DEPARTMENT OF LABOR

Employment and Training Administration

[TA-W-37,834]

Dynegy Midstream Services, Eunice, NM; Notice of Termination of Investigation

Pursuant to Section 221 of the Trade Act of 1974, an investigation was initiated on July 3, 2000, in response to a petition filed by a company official on behalf of workers at Dynegy Midstream Services, Eunice, New Mexico.

The company official submitting the petition has requested that the petition be withdrawn. Consequently, further investigation in this case would serve no purpose, and the investigation has been terminated.

Signed in Washington, DC, this 31st day of August, 2000.
Edward A. Tomchick,
Director, Division of Trade Adjustment Assistance.

[FR Doc. 00-23933 Filed 9-15-00; 8:45 am]

BILLING CODE 4510-30-M